DEPARTMENT OF AGRICULTURE

Foreign Agricultural Service

Refined Sugar Re-Export Program

AGENCY: Foreign Agricultural Service, USDA.

ACTION: Notice.

Using the waiver authority for the refined sugar re-export program found at 7 CFR 1530.113, the Foreign Agricultural Service is temporarily extending from 90 days to 270 days the period in which licensed refiners must export or transfer an equivalent amount of refined sugar, after entering a quantity of raw cane sugar, if such entry results in a positive balance to their license. For any raw sugar entered into U.S. customs territory on a license between September 1, 2005 and September 30, 2006, which resulted in a positive balance to the license, the licensed refiner shall have 270 days to export or transfer an equivalent amount of refined sugar. For any sugar entered into U.S. customs territory on a license after September 30, 2006, this waiver shall not apply, and the provisions of the regulations found at 7 CFR 1530.105 shall be in force.

Background

A request for comments on a proposed waiver to the sugar re-export program 90-day deadline was published in the Federal Register on September 30, 2005. Three comments were received, all in favor of temporarily extending from 90 days to 270 days the period in which licensed refiners must export or transfer an equivalent amount of refined sugar, after entering a quantity of raw cane sugar, if such entry results in a positive balance to their license.

FOR FURTHER INFORMATION CONTACT: Ron Lord, Deputy Director, Import Policies and Programs Division, FAS, USDA, (202) 720-2916, e-mail: Ronald.lord@usda.gov.

Dated: November 1, 2005.
Kenneth J. Roberts,
Foreign Agricultural Service.

[FR Doc. 05-22727 Filed 11-15-05; 8:45 am]

BILLING CODE 3410-10-M